DEPARTMENT OF ENERGY

Federal Energy Regulatory Commission

Combined Notice of Filings

Take notice that the Commission has received the following Natural Gas Pipeline Rate and Refund Report filings:

Filings Instituting Proceedings

Docket Numbers: RP13-711-000

Applicants: WBI Energy Transmission, Inc.

Description: Non-Conforming Service Agreements DB Energy, Rainbow, NJR to be effective 4/1/2013

Filed Date: 3/26/13

Accession Number: 20130326-5209

Comments Due: 5 p.m. ET 4/8/13

Docket Numbers: RP13-712-000

Applicants: Natural Gas Pipeline Company of America

Description: Renaissance Negotiated Rate to be effective 4/1/2013

Filed Date: 3/26/13

Accession Number: 20130326-5294

Comments Due: 5 p.m. ET 4/8/13

Docket Numbers: RP13-713-000

Applicants: Dominion Transmission, Inc.

Description: DTI—NAESB Extension of Time Removal to be effective 4/26/2013

Filed Date: 3/26/13

Accession Number: 20130326-5367

Comments Due: 5 p.m. ET 4/8/13

Docket Numbers: RP13-714-000

Applicants: Hardy Storage Company, LLC

Description: Hardy Cost of Service Extension

Filed Date: 3/26/13

Accession Number: 20130326-5379

Comments Due: 5 p.m. ET 4/8/13

Docket Numbers: RP13-715-000

Applicants: Natural Gas Pipeline Company of America

Description: Negotiated Rate—Integrys Energy to be effective 4/1/2013

Filed Date: 3/26/13

Accession Number: 20130326-5438

Comments Due: 5 p.m. ET 4/8/13

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-35-002

Applicants: Iroquois Gas Transmission System, L.P.

Description: 03/26/13 FERC Order 587-V NAESB 2.0 Extension Requirements to be effective 3/27/2013

Filed Date: 3/26/13

Accession Number: 20130326-5450

Comments Due: 5 p.m. ET 4/8/13

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 27, 2013.
Nathaniel J. Davis, Sr.
Deputy Secretary

[FR Doc. 2013-07683 Filed 4-2-13; 8:45 am]

BILLING CODE 6717-01-P